DEPARTMENT OF JUSTICE

Office of Justice Programs

[OMB Number 1121-0277]

Agency Information Collection Activities; Proposed Collection; Comments Requested; Revisions of Currently Approved Collection and Extension of Currently Approved Collection; OVC Training and Technical Assistance Center (TTAC) and OJJDP National Training and Technical Assistance Center (NTTAC) Evaluation Feedback Form Package

ACTION: 60-Day Notice of Information Collection Under Review.

The Department of Justice, Office of Justice Programs will be submitting the following information collection request to the Office of Management and Budget (OMB) for review and approval in accordance with the Paperwork Reduction Act of 1995. The proposed information collection is published to obtain comments from the public and affected agencies. Comments are encouraged and will be accepted for 60 days until July 18, 2011. This process is conducted in accordance with 5 CFR 1320.10.

If you have comments especially on the estimated public burden or associated response time, suggestions, or need a copy of the proposed information collection instrument with instructions or additional information, please contact Janet Chiancone, Associate Administrator, Office of Juvenile Justice and Delinquency Prevention, Office of Justice Programs, Department of Justice, 810 7th Street, NW., Washington, DC 20531.

Written comments concerning this information collection should be sent to the Office of Information and Regulatory Affairs, Office of Management and Budget, Attn: DOJ Desk Officer. The best way to ensure your comments are received is to email them to oira_submission@omb.eop.gov or fax them to 202-395-7285. All comments should reference the 8 digit OMB number for the collection or the title of the collection. If you have questions concerning the collection, please call Janet Chiancone at 202-353-9258 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: OVC TTAC and OJJDP NTTAC Evaluation Feedback Form Package.

(3) Agency form number, if any, and the applicable component of the Department of Justice sponsoring the collection: Office for Victims of Crime and Office of Juvenile Justice and Delinquency Prevention, Office of Justice Programs, Department of Justice.

(4) Affected public who will be asked or required to respond, as well as a brief abstract: Primary: State, Local, or Tribal. Other: Federal Government, Individuals or households; Not-for-profit institutions; Businesses or other for-profit. The Office for Victims of Crime Training and Technical Assistance Center (TTAC) and the Office for Juvenile Justice and Delinquency Prevention National Training and Technical Assistance Center (NTTAC) Evaluation Feedback Form Package is designed to collect the data necessary to continuously assess the outcome and impact of the assistance provided for both monitoring and accountability purposes and to continuously assess and meet the needs of the field. OJJDP NTTAC will send these forms to technical assistance (TA) recipients, conference attendees, and product recipients, to capture important feedback on the recipient's satisfaction with the quality, efficiency, referrals, and resources provided and assess the recipients additional training and TA needs. The data will then be used to advise NTTAC on ways to improve the support provided to its users and the juvenile justice field at-large.

(5) An estimate of the total number of respondents and the amount of time estimated for an average respondent to respond: It is estimated that 24312.75 respondents will complete forms and the response time will range from .03 hours to 1 hour.

(6) An estimate of the total public burden (in hours) associated with the collection: There are an estimated 1,998.45 total annual burden hours associated with this collection.

If additional information is required contact: Lynn Murray, Department Clearance Officer, United States Department of Justice, Policy and Planning Staff, Justice Management Division, Two Constitution Square, 145 N Street, NE., Room 2E-808, Washington, DC 20530.

Dated: May 11, 2011.
Lynn Murray,
Department Clearance Officer, PRA, United States Department of Justice.

[FR Doc. 2011-12026 Filed 5-16-11; 8:45 am]

BILLING CODE 4410-18-P